NUCLEAR REGULATORY COMMISSION

[Docket Nos. 052-00027 and 052-00028; NRC-2008-0441]

V. C. Summer Nuclear Station, Units 2 and 3 Combined Licenses and Record of Decision

AGENCY: Nuclear Regulatory Commission.

ACTION: Notice of issuance.

FOR FURTHER INFORMATION CONTACT: Denise McGovern, Office of New Reactors, U.S. Nuclear Regulatory Commission, Washington, DC 20555-0001; telephone: (301) 415-0681; email: denise.mcgovern@nrc.gov.

SUPPLEMENTARY INFORMATION:

I. Introduction

Pursuant to Title 10 of the Code of Federal Regulations (10 CFR) 2.106, the Nuclear Regulatory Commission (NRC) is providing notice of the issuance of Combined Licenses (COL), NPF-93 and NPF-94, to South Carolina Electric and Gas (SCE&G) and South Carolina Public Service Authority (Santee Cooper). The (NRC) finds that the applicable standards and requirements of the Atomic Energy Act of 1954, as amended, and the Commission's regulations have been met. The NRC finds that any required notifications to other agencies or bodies have been duly made and that there is reasonable assurance that the facility will be constructed and will operate in conformity with the license, the provisions of the Act, and the Commission regulations. Furthermore, the NRC finds that the licensees are technically and financially qualified to engage in the activities authorized, and that issuance of the licenses will not be inimical to the common defense and security or to the health and safety of the public.

Accordingly, the COLs were issued on March 30, 2012, and are effective immediately.

II. Further Information

The NRC has prepared a Final Safety Evaluation Report (FSER) and Final Environmental Impact Statement (FEIS) that document the information reviewed and NRC's conclusion. The Commission has also issued its Memorandum and Order documenting its final decision on the uncontested hearing held on October 12-13, 2011, which serves as the Record of Decision in this proceeding. In accordance with 10 CFR 2.390 of the NRC's “Rules of Practice,” details with respect to this action, including the FSER and accompanying documentation included in the combined license package, as well as the Commission's hearing decision, are available online in the NRC Library at http://www.nrc.gov/reading-rm/adams.html. From this site, persons can access the NRC's Agencywide Document Access and Management System (ADAMS), which provides text and image files of NRC's public documents. The ADAMS accession numbers for the documents related to this notice are:

ML110450305 “Final Safety Evaluation Report for Combined Licenses for Virgil C. Summer Nuclear Station, Units 2 and 3”

ML11098A044 NUREG-1939, Vol 1, “Final Environmental Impact Statement for Combined Licenses for Virgil C. Summer Nuclear Station, Units 2 and 3”

ML11098A057 NUREG-1939, Vol 2, “Final Environmental Impact Statement for Combined Licenses for Virgil C. Summer Nuclear Station, Units 2 and 3”

ML11187A127 VCSNS COL Application—Revision 5 of the application

ML12090A531 Memorandum and Order on the uncontested hearing (record of decision)

ML113190371 Combined License No. NPF-93

ML113190715 Combined License No. NPF-94

Persons who do not have access to ADAMS or who encounter problems in accessing the documents located in ADAMS should contact the NRC Public Document Room (PDR) Reference staff by telephone at 1-800-397-4209, 301-415-4737, or by email to pdr.resource@nrc.gov. The documents are also available at http://www.nrc.gov/reactors/new-reactors/col.html.

These documents may also be viewed electronically on the public computers located at the NRC's PDR, O 1 F21, One White Flint North, 11555 Rockville Pike, Rockville, MD 20852. The PDR reproduction contractor will copy documents for a fee.

Dated at Rockville, Maryland, this 2nd day of April, 2012.
For The Nuclear Regulatory Commission.
Mark Tonacci,
Chief, Licensing Branch 4, Division of New Reactor Licensing, Office of New Reactors.

[FR Doc. 2012-8548 Filed 4-9-12; 8:45 am]

BILLING CODE 7590-01-P